DEPARTMENT OF TRANSPORTATION

National Highway Traffic Safety Administration

Reports, Forms and Recordkeeping Requirements Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on June 16, 2004 at Vol. 69, No. 115, p. 33693-94.

DATES: Comments must be submitted on or before June 6, 2005.

FOR FURTHER INFORMATION CONTACT: Larry Long at the National Highway Traffic Safety Administration, Recall Management Division, NVS-215, 400 Seventh Street, SW., Washington, DC 20590, phone (202) 366-6281.

SUPPLEMENTARY INFORMATION:

National Highway Traffic Safety Administration

Title: Dealer Notification of Defects and Noncompliances.

OMB Number: 2127-0004.

Type of Request: Revision of a currently approved information collection adding new requirements.

Abstract: These are new amendments to regulations that require manufacturers of motor vehicles and items of vehicle equipment conducting recalls to (1) add information about the manufacturer's intended schedule for dealer notification to the manufacturer's notifications to NHTSA of defects and noncompliances that are already provided pursuant to 49 CFR 573, and (2) include certain specified language in the notifications that they send to their dealers and distributors pursuant to 49 CFR 577. In addition, vehicle manufacturers will now be required to maintain for a period of 5 years a list of its dealers and distributors that they have notified (69 FR 33693-33694).

Affected Public: All manufacturers of motor vehicles and items of motor vehicle equipment that conduct safety recalls.

Estimated Total Annual Burden: 19,974 hours for manufacturers of motor vehicles and items of motor vehicle equipment.

ADDRESSES: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology.

A comment to OMB is most effective if OMB receives it within 30 days of publication.

Kathleen C. DeMeter,
Director, Office of Defects Investigation.

[FR Doc. 05-9122 Filed 5-5-05; 8:45 am]

BILLING CODE 4910-59-P